DEPARTMENT OF ENERGY

Bonneville Power Administration

Opportunity for Public Comment; Bonneville Power Administration Long-Term Regional Dialogue Policy Proposal

AGENCY: Bonneville Power Administration (BPA), Department of Energy.

ACTION: Notice of Regional Dialogue policy proposal and opportunity for public comment.

SUMMARY: BPA is publishing a policy proposal regarding the agency's future power supply role in the Pacific Northwest after 2011. This proposal addresses how the agency proposes to market power and distribute the costs and benefits of the Federal Columbia River Power System, which will create valuable certainty for customers over their BPA power supply. Current contracts expire in 2011, and once BPA makes basic policy decisions, it will still take at least another 16 months to negotiate new contracts and put a long-term tiered rate methodology in place. This will leave little more than three years for the region's utilities to make and implement their plans for developing any necessary power supply. It is in the region's best interest to proceed with implementation of this policy and to execute new contracts soon to accommodate such planning and development. A final record of decision on BPA's policy will be issued in early 2007 after all public comments have been reviewed.

DATES: Public comments will be accepted through September 29, 2006. Public meeting dates are included in the SUPPLEMENTARY INFORMATION section below.

ADDRESSES: The comment period is open through September 29, 2006. Comments can be submitted on-line at: http://www.bpa.gov/comment via e-mail to comment@bpa.gov, via mail to: Bonneville Power Administration, Public Affairs Office—DKC-7, P.O. Box 14428, Portland, Oregon, 97293-4428, or faxed to (503) 230-3285. You can also call us with your comment; toll free at (800) 622-4519. Please reference the Regional Dialogue with your comments.

FOR FURTHER INFORMATION CONTACT: Helen Goodwin, Regional Dialogue project manager, at (503) 230-3129. Copies of the policy proposal are available online at http://www.bpa.gov/power/pl/regionaldialogue/announcements.shtml or by calling the BPA Public Information Center at (800) 622-4520.

SUPPLEMENTARY INFORMATION:

Schedule of public meetings:

1. August 1, 2006, 3 p.m. to 7 p.m., Seattle, Washington—Mountaineers Building, 300 3rd Avenue West.

2. August 7, 2006, 1 p.m. to 5 p.m., Pasco, Washington—Franklin PUD Auditorium, 1411 West Clark Street.

3. August 9, 2006, 3 p.m. to 7 p.m., Portland, Oregon—BPA Rates Hearing, Room 223, 911 NE. 11th Avenue.

4. August 21, 2006, 1 p.m. to 5 p.m., Missoula, Montana—Wingate Inn, 5252 Airway Boulevard.

5. August 23, 2006, 3 p.m. to 7 p.m., Idaho Falls, Idaho—Shilo Inns Suites Hotel, 780 Lindsay Boulevard.

6. August 29, 2006, 10 a.m. to 3 p.m., Portland, Oregon—BPA Rates Hearing, Room 223, 911 NE. 11th Avenue—Direct Service Industry public meeting.

Any changes or additions to this meeting schedule will be posted on BPA's Regional Dialogue Web site at www.bpa.gov/power/regionaldialogue.

Issued in Portland, Oregon on August 1, 2006.
Stephen J. Wright,
Administrator and Chief Executive Officer, Bonneville Power Administration.

[FR Doc. E6-13033 Filed 8-9-06; 8:45 am]

BILLING CODE 6450-01-P